ENVIRONMENTAL PROTECTION AGENCY

[FRL-6894-3]

Agency Information Collection Activities: Proposed Collection; Comment Request; National Oil and Hazardous Substances Pollution Contingency Plan, Subpart J

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): National Oil and Hazardous Substances Pollution Contingency Plan-Subpart J, EPA ICR 1664.04, OMB Control Number 2050-0141, expiring November 30, 2000. The ICR describes the nature of the information collection and its expected burden and cost; where appropriate and its expected burden and cost; where appropriate, it includes the actual data collection instrument.

DATES: Comments must be submitted on or before December 1, 2000.

ADDRESSES: Send comments, referencing EPA ICR No. 1664.04 and OMB Control No. 2050-0141, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by email at farmer.sandy@epamail.epa.gov, or download off the Internet at http://www.epa.gov/icr and refer to EPA ICR No. 1664.04. For technical questions about the ICR contact William “Nick” Nichols, (703) 603-9918.

SUPPLEMENTARY INFORMATION: Title: National Oil and Hazardous Substances Pollution Contingency Plan, Subpart J (NCP) (OMB Control No. 2050-0141; EPA ICR No.1664.04), expiring November 30, 2000. This is a renewal.

Abstract: Subpart J of the NCP allows and regulates the use of chemical and biological oil spill cleanup and control agents. The information collected is supplied by the manufacturer of such products. This information and data are then analyzed by EPA to determine the appropriateness, and under which category, the product may be listed on the NCP Product Schedule. This product data is critical for EPA to obtain in order to assure that effectiveness and toxicity data for these products is available to the oil spill community, to use them legally and effectively. Responses to the collection of information are mandatory if EPA determines that the products specifications require its listing under subpart J (40 CFR 300.5a Definitions), however, manufacturers volunteer to have their product analyzed. The authority to review and use a product is 40 CFR 300.910. Confidentiality of data, ingredients, and other proprietary information for the products is maintained by EPA. Manufacturers may use any certified lab in the U.S. to test their products effectiveness and toxicity. The cost of such test range from $1,000 to $5,000 per test. The process to have a product listed takes at least 30 days, but no longer than 60 days, depending on the accuracy and completeness of the product information package provided to EPA by the manufacturer. Due to the technical and graphical data required to be listed, electronic submissions are not accepted.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 17, 2000 (65 FR 20451). No comments were received.

Burden Statement: The annual public reporting and recordkeeping burden for this collection is estimated to average 27 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of oil spill dispersants and other chemicals.

Estimated Number of Respondents: 28.

Frequency of Response: As needed.

Estimated Total Annual Hour Burden: 826.

Estimated Total Annualized Capital, O&M Cost Burden: 150,000.

Send comments on the Agency's need for this information, the accuracy of the provided burden estimates, and any suggested methods for minimizing respondent burden, including through the use of automated collection techniques to the addressses listed above. Please refer to EPA ICR No. 1664.04 and OMB Control No. 2050-0141 in any correspondence.

Dated: October 23, 2000.
Oscar Morales,
Director, Collection Strategies Division.

[FR Doc. 00-28010 Filed 10-31-00; 8:45 am]

BILLING CODE 6560-50-P